DEPARTMENT OF ENERGY

Environmental Management Site-Specific Advisory Board, Idaho Cleanup Project

AGENCY: Department of Energy, Office of Environmental Management.

ACTION: Notice of open meeting.

SUMMARY: This notice announces a meeting of the Environmental Management Site-Specific Advisory Board (EM SSAB), Idaho Cleanup Project. The Federal Advisory Committee Act requires that public notice of this meeting be announced in the Federal Register.

DATES: Thursday, February 27, 2020; 3:00 p.m.-8:00 p.m.

Please note the EM SSAB, Idaho Cleanup Project, is starting in the afternoon instead in the morning like previous meetings.

The opportunities for public comment are at 5:15 p.m. and 7:15 p.m.

This time is subject to change; please contact the Federal Coordinator (below) for confirmation of times prior to the meeting.

ADDRESSES: Residence Inn Idaho Falls, 635 West Broadway, Idaho Falls, ID 83402.

FOR FURTHER INFORMATION CONTACT: Brad Bugger, Federal Coordinator, U.S. Department of Energy, Idaho Operations Office, 1955 Fremont Avenue, MS-1203, Idaho Falls, Idaho 83415. Phone (208) 526-0833; or email: buggerbp@id.doe.gov or visit the Board's internet home page at: https://www.energy.gov/em/icpcab/idaho-cleanup-project-citizens-advisory-board-icp-cab.

SUPPLEMENTARY INFORMATION:

Purpose of the Board: The purpose of the Board is to make recommendations to DOE-EM and site management in the areas of environmental restoration, waste management, and related activities.

Tentative Topics (agenda topics may change up to the day of the meeting; please contact Brad Bugger for the most current agenda):

• Recent Public Outreach

• Idaho Cleanup Project (ICP) Overview

• Fiscal Year 2021 Budget Priorities

• Discussion of Agreement with the State of Idaho

• Update on Integrated Waste Treatment Unit (IWTU)

• Wildfire Preparations and Post-fire Restoration

• Consideration of EM SSAB Chairs' Recommendations

• Board Discussion and Subcommittee Follow-up

Public Participation: The meeting is open to the public. The EM SSAB, Idaho Cleanup Project, welcomes the attendance of the public at its advisory committee meetings and will make every effort to accommodate persons with physical disabilities or special needs. If you require special accommodations due to a disability, please contact Brad Bugger at least seven days in advance of the meeting at the telephone number listed above. Written statements may be filed with the Board either before or after the meeting. Individuals who wish to make oral presentations pertaining to agenda items should contact Brad Bugger at the address or telephone number listed above. The request must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Brad Bugger, Federal Coordinator, at the address and telephone number listed above. Minutes will also be available at the following website: https://www.energy.gov/em/icpcab/listings/cab-meetings.

Signed in Washington, DC, on December 5, 2019.
LaTanya Butler,
Deputy Committee Management Officer.

[FR Doc. 2019-26621 Filed 12-10-19; 8:45 am]

BILLING CODE 6450-01-P